HARRY S. TRUMAN SCHOLARSHIP FOUNDATION

Sunshine Act Meeting

Trustees Meeting

United States Capitol Building, Room HC-6, June 17, 2002, 4:00-4:30 p.m.

1. Call to Order.

2. Approval of the Minutes of the 2001 Annual Meeting.

3. Election of Foundation President.

4. New Business.

Adjournment.

Dated: May 10, 2002.
Louis H. Blair,
Executive Secretary.

[FR Doc. 02-12139 Filed 5-10-02; 12:59 pm]

BILLING CODE 6820-AD-M